FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—5/14/2001
20011659 | SPX Corporation | United Dominion Industries Limited | United Dominion Industries Limited.
20011775 | SONICblue Inc. | ReplayTV, Inc. | ReplayTV, Inc.
20011778 | Eastman Kodak Company | Ofoto, Inc. | Ofoto, Inc.
20011782 | Genzyme Corporation | Wyntek Diagnostics, Inc | Wyntek Diagnostics, Inc.
20011783 | Alta Communications VI, L.P | Diveo Broadband Networks, Inc | Diveo Broadband Networks, Inc.
20011800 | Pitney Bowes Inc. | Danka Business Systems, plc | Danka Services International.
Transactions Granted Early Termination—5/15/2001
20011794 | GTCR Fund VII, L.P. | Robert F. Driver Co., Inc. | Robert F. Driver Co., Inc
20011796 | Bernard Arnault | Donna Karan International Inc | Donna Karan International Inc.
20011798 | International Business Machines Corporation | Mainspring, Inc. | Mainspring, Inc.
Transactions Granted Early Termination—5/18/2001
20011769 | Superior Energy Services, Inc | LAG IT 88 Trust | Power Offshore Service, L.L.C., Power Well Service No. 10, L.L.C., Power Well Service No. 11, L.L.C., Power Well Service No. 2, L.L.C., Power Well Service No. 4, L.L.C., Power Well Service No. 7, L.L.C., Power Well Service No. 8, L.L.C., Power Well Service No. 9, L.L.C., Power Well Service, L.L.C., Reeled Tubing, L.L.C., RTI/POS Service, L.L.C.
20011816 | Tyco International Ltd. | FLAG Telecom Holdings Limited | FLAG Telecom Holdings Limited
Transactions Granted Early Termination—5/21/2001
20011770 | Smithfield Foods, Inc. | Moyer Packing Company | Moyer Packing Company.
20011788 | Odyssey Investment Partners Fund, LP | Federal-Mogul Corporation | Federal-Mogul Ignition Company.
20011792 | Sydsvenska Kemi AB | Perstorp AB (a Swedish company) | Perstorp AB (a Swedish company)
20011795 | Code, Hennessy & Simmons III, L.P | The United Company | The Roof Center, Inc., West End Lumber Company, Inc.
20011806 | Motorola, Inc. | Blue Wave Systems, Inc | Blue Wave Systems, Inc.
20011808 | Arch Capital Group, Ltd. | The Trident Partnership, L.P | Altus Holdings, Ltd.
20011812 | Forstmann Little & Co., Equity Partnership—VI, L.P. | XO Communications, Inc | XO Communications, Inc.
20011814 | Vereniging AEGON | J.C. Penney Company, Inc | J.C. Penney Direct Marketing Services, Inc.
20011818 | Compaq Computer Corporation | Proxicom, Inc. | Proxicom, Inc.
20011819 | Kana Communications, Inc | Broadbase Software, Inc | Broadbase Software, Inc.
20011820 | Alec E. Gores | Micron Technology, Inc. | Micron Technology, Inc.
20011825 | Wells Fargo & Company | H.D. Vest, Inc. | H.D. Vest, Inc.
20011826 | Mr. Alec E. Gores | Hewlett-Packard Company | VeriFone, Inc.
20011827 | Arthur J. Gallagher & Co | The Galtney Group, Inc. | The Galtney Group, Inc.
20011830 | Siemens AG | Catamaran Communications, Inc | Catamaran Communications, Inc.
20011835 | Swiss Reinsurance Company | Southwestern Life Holdings, Inc | Southwestern Life Holdings, Inc.
20011843 | Old Mutual plc | The St. Paul Companies, Inc | Fidelity and Guaranty Life Insurance Company.
20011844 | Lincolnshire Equity Fund II, L.P | Robert Nederlander | All American Sports Corp., Equilink Licensing Corp., MacMark Corp., McGregor Corp., Proacq Corp., RHC Licensing Corporation, Riddell Sports Inc., Riddell, Inc., Ridmark Corp.
Transactions Granted Early Termination—5/22/2001
20011767 | Carla S.A.S. | Akzo Nobel N.V. | Advanced Business Laboratories, Inc., Akzo Nobel N.V.
20011787 | Akzo Nobel NV | Covance Inc. | Covance Biotechnology Services, Inc.
Transactions Granted Early Termination—5/24/2001
20011803 | Micrel, Incorporated | Kendin Communications, Inc. | Kendin Communications, Inc
Transactions Granted Early Termination—5/25/2001
20011815 | Glencore Holding AG | Alcan, Inc. | Alcan, Inc.
20011823 | SunGard Data Systems, Inc | Neil S. Hirsch | Loanet Holdings, Inc.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-15551 Filed 6-19-01; 8:45 am]

BILLING CODE 6750-01-M